NATIONAL SCIENCE FOUNDATION

Advisory Panel for Anthropological and Geographic Sciences; Notice of Meeting

In accordance with the Federal Advisory Committee Act (Pub. L. 92-463, as amended), the National Science Foundation (NSF) announces the following seven meetings of the Advisory Panel for Anthropological and Geographic Sciences (#1757):

Date & Time: April 22-23, 2001; 8:30 a.m.-6 p.m.

Place: Salon 802, Le Meridien Hotel, 614 Canal Street, New Orleans, LA.

Contact Person: Dr. John Yellen, Program Director for Archaeology and Archaeometry Program, National Science Foundation, 4201 Wilson Boulevard, Suite 995, Arlington, VA 22230. Telephone (703) 292-7322.

Agenda: To review and evaluate Archaeology proposals as part of the selection process for awards.

Date & Time: April 23-24, 2001; 8:30 a.m.-5 p.m.

Place: Le Meridien Hotel, Rm. 970.

Contact Person: Dr. Mark Weiss, Program Director for Physical Anthropology, National Science Foundation, 4201 Wilson Boulevard, Suite 995, Arlington, VA 22230. Telephone: (703) 292-7321.

Agenda: To review and evaluate Physical Anthropology proposals as part of the selection process for awards.

Date & Time: April 19-20, 2001; 8:30 a.m.-5 p.m.

Place: Le Meridien Hotel, Rm. 365.

Contact Person: Dr. Stuart Plattner, Program Director for Cultural Anthropology, National Science Foundation, 4201 Wilson Boulevard, Suite 995, Arlington, VA 22230. Telephone: (703) 292-7315.

Agenda: To review and evaluate Cultural Anthropology proposals as part of the selection process for awards.

Date & Time: March 28-29, 2001; 8:30 a.m.-5 p.m.

Place: Rm. 120, Hyatt Regency Menda Salon de Conferencia, Merida, Mexico.

Contact Person: Dr. Stuart Plattner, Program Director for Cultural Anthropology, National Science Foundation, 4201 Wilson Boulevard, Suite 995, Arlington, VA 22230. Telephone: (703) 292-7315.

Agenda: To review and evaluate Cultural Anthropology dissertation proposals as part of the selection process for awards.

Date & Time: April 5-6, 2001; 8:30 a.m.-5 p.m.

Place: National Science Foundation, 4201 Wilson Blvd., Arlington, VA.

Contact Person: Dr. Nina Lam, Program Director for Geography and Regional Science, National Science Foundation, 4201 Wilson Boulevard, Suite 995, Arlington, VA 22230. Telephone: (703) 292-7313.

Agenda: To review and evaluate Geography and Regional Science proposals as part of the selection process for awards.

Date & Time: April 19-20, 2001; 8:30 a.m.-5 p.m.

Place: National Science Foundation, 4201 Wilson Blvd., Arlington, Va.

Contact Person: Dr. Nina Lam, Program Director for Geography and Regional Science, National Science Foundation, 4201 Wilson Boulevard, Suite 995, Arlington, VA 22230. Telephone: (703) 292-7313.

Agenda: To review and evaluate Geography and Regional Science dissertation proposals as part of the selection process for awards.

Date & Time: April 19, 2001; 8:30 a.m.-2 p.m.

Place: Salon 802, Le Meridien Hotel, 614 Canal Street, New Orleans, LA 70130.

Contact Person: Dr. John Yellen, Program Director for Archaeology and Archaeometry Program, National Science Foundation, 4201 Wilson Boulevard, Suite 995, Arlington, VA 22230. Telephone: (703) 292-7322

Agenda: To review and evaluate Archaemetry proposals as part of the selection process for awards.

Type of Meetings: Closed.

Purpose of Meetings: To provide advice and recommendations concerning support for research proposals submitted to the NSF for financial support.

Reason for Closing: The proposals being reviewed include information of a proprietary or confidential nature, including technical information, financial data, such as salaries; and personal information concerning individuals associated with the proposals. These matters are exempt under 5 U.S.C. 552b(c)(4) and (6) of the Government in the Sunshine Act.

Dated: February 20, 2001.
Susanne Bolton,
Committee Management Officer.

[FR Doc. 01-4563 Filed 2-23-01; 8:45 am]

BILLING CODE 7555-01-M